DEPARTMENT OF ENERGY

Federal Energy Regulatory Commission

[Project No. P-2725-076]

Oglethorpe Power Corporation; Notice of Revised Procedural Schedule for the Proposed Project Relicense

On December 6, 2024, Oglethorpe Power Corporation filed an application to relicense the 904-megawatt Rocky Mountain Pumped Storage Project No. 2725 (project). On May 12, 2025, Commission staff issued a notice of revised schedule which included an anticipated schedule for issuing the ready for environmental analysis (REA) notice by December 2025.

By this notice, Commission staff are revising the procedural schedule for issuing the REA notice for the project as follows. Further revisions to the schedule may be made as appropriate.

Milestone | Target date
Issue REA Notice | May 2026.

Any questions regarding this notice may be directed to David Gandy at 202-502-8560, or david.gandy@ferc.gov.

(Authority: 18 CFR 2.1)

Dated: January 15, 2026.
Debbie-Anne A. Reese,
Secretary.

[FR Doc. 2026-01076 Filed 1-20-26; 8:45 am]

BILLING CODE 6717-01-P